DEPARTMENT OF HOMELAND SECURITY

Coast Guard

46 CFR Parts 30, 150, and 153

[Docket No. USCG-2013-0423]

RIN 1625-AB94

2012 Liquid Chemical Categorization Updates

AGENCY: Coast Guard, DHS.

ACTION: Interim rule; additional delay of effective date.

SUMMARY: The Coast Guard announces the additional delay of the effective date of this interim rule from January 16, 2014, to January 16, 2015. The delay until 2015 will allow the Coast Guard to investigate and, if necessary, correct technical errors that were brought to the Coast Guard's attention by public comments on the interim rule.

DATES: The effective date of the interim rule published at 78 FR 50147, August 16, 2013, delayed until January 16, 2014 at 78 FR 56837, September 16, 2013 is further delayed until January 16, 2015.

FOR FURTHER INFORMATION CONTACT: If you have questions on this rule, email or call Mr. Patrick Keffler, Coast Guard; email: Patrick.A.Keffler@uscg.mil; telephone: 202-372-1424. If you have questions on viewing or submitting material to the docket, call Chery Collins, Program Manager, Docket Operations, telephone 202-366-9826.

SUPPLEMENTARY INFORMATION: This document is issued under the authority of 5 U.S.C. 552(a). The August 16, 2013 interim rule (78 FR 50147) related to this document promotes the Coast Guard's marine safety mission by updating and revising regulatory tables that list liquid hazardous materials, liquefied gases, and compressed gases that have been approved for maritime transportation in bulk, and that indicate how the pollution potential of each substance has been categorized. The Coast Guard is delaying the effective date of this interim rule from January 16, 2014, to January 16, 2015. The delay until 2015 will allow the Coast Guard to investigate and, if necessary, correct technical errors that were brought to the Coast Guard's attention by public comments on the interim rule.

Dated: January 8, 2014.
J.G. Lantz,
Director of Commercial Regulations and Standards, U.S. Coast Guard.

[FR Doc. 2014-00502 Filed 1-9-14; 4:15 pm]

BILLING CODE 9110-04-P